DEPARTMENT OF HOMELAND SECURITY

Coast Guard

33 CFR Part 117

[Docket No. USCG-2010-0203]

Drawbridge Operation Regulation; Mermentau River, Grand Chenier, LA

AGENCY: Coast Guard, DHS.

ACTION: Notice of temporary deviation from regulations.

SUMMARY: The Commander, Eighth Coast Guard District, has issued a temporary deviation from the regulation governing the operation of the SR 82 swing span bridge across the Mermentau River, mile 7.1, at Grand Chenier, Cameron Parish, Louisiana. This deviation is necessary for electrical and mechanical repairs pertaining to the bridge's main span drive assembly and system components. This deviation allows the bridge to remain closed to navigation for approximately 10 weeks.

DATES: This deviation is effective from 7 a.m. on April 21, 2010, through 7 a.m. on June 30, 2010.

ADDRESSES: Documents mentioned in this preamble as being available in the docket are part of docket USCG-2010-0203 and are available online by going to http://www.regulations.gov, inserting USCG-2010-0203 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Kay Wade, Bridge Administration Branch, Coast Guard; telephone 504-671-2128, e-mail Kay.B.Wade@uscg.mil. If you have questions on viewing the docket, call Renee V. Wright, Program Manager, Docket Operations, telephone 202-366-9826.

SUPPLEMENTARY INFORMATION: The Louisiana Department of Transportation and Development has requested a temporary deviation from the operating schedule of the swing span bridge across the Mermentau River at mile 7.1 in Grand Chenier, Cameron Parish, Louisiana. The closure is necessary in order to perform electrical and mechanical repairs pertaining to the bridge's main span drive assembly and system components. This maintenance is essential for the continued operation of the bridge.

The operating schedule for the bridge is in 33 CFR 117.480 and states the bridge opens on signal; except that, from 6 p.m. to 6 a.m. the draw shall open on signal if at least 4 hours notice is given, for the passage of vessels. This deviation will allow the bridge to remain in the closed-to-navigation position from 7 a.m. Wednesday, April 21, 2010, through 7 a.m. Thursday, July 1, 2010.

The vertical clearance of the swing span bridge in the closed-to-navigation position is 13.15 feet above Mean High Water, elevation 3.1 feet Mean Sea Level. Vessels are able to transit under the bridge during operations. There is an alternate navigation route via Grand Lake for vessels unable to pass under the bridge. Navigation on the waterway consists of tugs with tows, fishing vessels and recreational craft. Due to prior experience and coordination with waterway users, it has been determined that the closure will not have a significant effect on navigation.

In accordance with 33 CFR 117.35(e), the drawbridge must return to its regular operating schedule immediately at the end of the designated time period. This deviation from the operating regulations is authorized under 33 CFR 117.35.

Dated: March 30, 2010.
David M. Frank,
Bridge Administrator.

[FR Doc. 2010-8096 Filed 4-8-10; 8:45 am]

BILLING CODE 9110-04-P